DEPARTMENT OF COMMERCE

International Trade Administration

[A-580-867]

Large Power Transformers From the Republic of Korea: Postponement of Preliminary Determination of Antidumping Duty Investigation

AGENCY: Import Administration, International Trade Administration, Department of Commerce.

DATES: Effective Date: December 6, 2011.

FOR FURTHER INFORMATION CONTACT: Angelica Mendoza, David Cordell or Brian Davis, Office 7, AD/CVD Operations, Import Administration, International Trade Administration, U.S. Department of Commerce, 14th Street and Constitution Avenue NW., Washington, DC 20230, telephone: (202) 482-3019, (202) 482-0408 or (202) 482-7924, respectively.

SUPPLEMENTARY INFORMATION:

Background

On August 10, 2011, the Department of Commerce (the Department) published in the Federal Register the initiation of the antidumping duty investigation of large power transformers from the Republic of Korea (Korea). See Large Power Transformers from the Republic of Korea: Initiation of Antidumping Duty Investigation, 76 FR 49439 (August 10, 2011). The current deadline for the preliminary determinations of this investigation is December 21, 2011.

Period of Investigation

The period of investigation is July 1, 2010, through June 30, 2011.

Postponement of Preliminary Determination

Section 733(b)(1)(A) of the Tariff Act of 1930, as amended (the Act), requires the Department to make a preliminary determination no later than 140 days after the initiation of the investigation.

On November 23, 2011, petitioners ABB Inc., Delta Star, Inc., and Pennsylvania Transformer Technology Inc. (collectively, petitioners) made a timely request pursuant to 19 CFR 351.205(e) for a postponement of the preliminary determination because of the extraordinarily complicated nature of the proceeding and its required analysis, and because the Department is still gathering questionnaire responses from the respondents. See Letter from petitioners to the Department, entitled “Large Power Transformers from the Republic of Korea—Petitioners' Request for Extension of Preliminary Determination,” dated November 23, 2011.

For the reasons stated above and because there are no compelling reasons to deny the request, the Department is postponing by 50 days to February 9, 2012, the deadline for its preliminary determination of this investigation pursuant to section 733(c)(1)(A) of the Act and 19 CFR 351.205(e) and (f). In accordance with section 735(a)(1) of the Act, the deadline for the final determination of this antidumping duty investigation will continue to be 75 days after the date of the preliminary determination, unless extended.

This notice is issued and published in accordance with section 733(c)(2) of the Act and 19 CFR 351.205(f)(1).

Dated: November 30, 2011.
Paul Piquado,
Assistant Secretary for Import Administration.

[FR Doc. 2011-31288 Filed 12-5-11; 8:45 am]

BILLING CODE 3510-DS-P